DEPARTMENT OF ENERGY

Bonneville Power Administration

Albany-Eugene Transmission Line Rebuild Project

AGENCY: Bonneville Power Administration (BPA), Department of Energy (DOE).

ACTION: Notice of intent to prepare an Environmental Impact Statement (EIS).

SUMMARY: In accordance with the National Environmental Policy Act (NEPA), BPA intends to prepare an EIS on its proposed rebuild of a 32-mile section of the Albany-Eugene 115-kilovolt (kV) No. 1 Transmission Line in Lane and Linn counties, Oregon. The deteriorated condition of this 70-year old line compromises BPA's ability to maintain reliable electric service and poses a safety risk to the public and maintenance crews. With this notice BPA is initiating the public scoping process for the Albany-Eugene Transmission Line Rebuild Project EIS and requesting comments about the potential environmental impacts it should consider as it prepares the EIS for the proposed project.

DATES: Written comments are due to the address below no later than November 30, 2010. Comments may also be made at two EIS scoping meetings to be held on November 16 and 17, 2010 at the the addresses below.

ADDRESSES: Comments and suggestions on the proposed scope of the Draft EIS for this project and requests to be placed on the project mailing list may be mailed by letter to Bonneville Power Administration, Public Affairs—DKC-7, P.O. Box 14428, Portland, OR 97292-4428. Or you may FAX them to 503-230-3285; submit them on-line at http://www.bpa.gov/comment; or e-mail them to comment@bpa.gov. On November 16, 2010 a scoping meeting will be held from 4:30 p.m. to 7 p.m. at Harrisburg High School, 400 South 9th Street, Harrisburg, Oregon 97446. On November 17, 2010, a scoping meeting will held from 4:30 p.m. to 7 p.m. at the Albany Public Library, 2450 14th Avenue SE., Albany, Oregon 97322. At these informal open-house meetings, BPA will provide information, including maps, about the project. Members of the project team will be available to answer questions and accept oral and written comments.

FOR FURTHER INFORMATION CONTACT: Doug Corkran, Environmental Coordinator, Bonneville Power Administration—KEC-4, P.O. Box 3621, Portland, Oregon, 97208-3621; toll-free telephone number 1-800-622-4519; direct number (503) 230-7646; fax number 503-230-5699; or e-mail dfcorkran@bpa.gov. You may also contact Erich Orth, Project Manager, Bonneville Power Administration—TEP-TPP-3, P.O. Box 3621, Portland, Oregon 97208-3621; toll-free telephone 1-800-622-4519; direct telephone 360-619-6559; or e-mail etorth@bpa.gov Additional information can be found at BPA's Web site: http://www.efw.bpa.gov.

SUPPLEMENTARY INFORMATION:

Proposed Action: BPA proposes to rebuild a 32-mile section of the Albany-Eugene 115-kV No. 1 Transmission Line. No major work has been done on the line since it was built in 1940. Many of the structures, the electric wire (conductor), and associated structural components (cross arms, insulators, and dampers) are physically worn and structurally unsound in places. The wood transmission poles have lasted beyond the expected 55 to 60 years and now need to be replaced due to age, rot, and deterioration. Rebuilding the deteriorated line would maintain reliable electrical service and avoid risks to the safety of the public and maintenance crews.

Proposed activities would include establishing temporary access to the line, improving some access roads, developing staging areas for storage of materials, removing and replacing existing wood pole structures and associated structural components and conductor, and revegetating areas disturbed by construction activities. The existing structures would be replaced with structures of similar design within or near to their existing locations. The line would continue to operate at 115-kV. Danger trees and brush located off the existing right-of-way (ROW) would be removed. A danger tree is a tree located off the ROW that is a present or future hazard to the transmission line. A tree is identified as a danger tree if it would contact BPA facilities should it fall, bend, grow within a swing displacement of the conductor, or grow into the conductor. Danger tree removal would take place concurrently with project construction.

Process to Date: In February 2010, BPA announced its proposed rebuild and its intent to prepare an Environmental Assessment (EA) for the proposed project. BPA held a public meeting in March 2010, in Junction City, Oregon. Two comment letters were received during the comment period, which closed on March 27, 2010. Since that time BPA has determined that a significant number of danger trees would need to be removed to prevent damage to the line and that a different kind of NEPA document—an EIS rather than an EA—is required because of the potential for significant environmental impact.

Alternatives Proposed for Consideration: In addition to the Proposed Action, BPA will evaluate the No Action Alternative. Under the No Action Alternative, BPA would not rebuild the line; current operation and maintenance activities would continue.

Public Participation and Identification of Environmental Issues: The potential environmental issues identified for most transmission line projects include land use, cultural resources, visual impact, sensitive plants and animals, erosion/soils, wetlands, floodplains, and fish and water resources. BPA has established a 30-day scoping period during which affected landowners, concerned citizens, special interest groups, local governments, and any other interested parties are invited to comment on the scope of the proposed EIS. Scoping will help BPA ensure that a full range of issues related to this proposal is addressed in the EIS, and also help identify significant or potentially significant impacts that my result from the proposed project. When completed, the Draft EIS will be circulated for review and comment, and BPA will hold at least one public comment meeting for the Draft EIS. BPA will consider and respond in the Final EIS to comments received on the Draft EIS. BPA's subsequent decision will be documented in a Record of Decision.

Maps and further information are available from BPA at the address above.

Issued in Portland, Oregon, on October 21, 2010.
Stephen J. Wright,
Administrator and Chief Executive Officer.

[FR Doc. 2010-27411 Filed 10-28-10; 8:45 am]

BILLING CODE 6450-01-P